DEPARTMENT OF HEALTH AND HUMAN SERVICES

Health Resources and Services Administration

Reimbursement of Travel and Subsistence Expenses Toward Living Organ Donation Proposed Eligibility Guidelines and Publication of Final Program Eligibility Guidelines

AGENCY: Health Resources and Services Administration, HHS.

ACTION: Correction of Web site.

SUMMARY: The Health Resources and Services Administration published a notice in the Federal Register of October 5, 2007 (FR Doc. E7-19747), on pages 57049-57052, regarding response to solicitation of comments and publication of final program eligibility guidelines.

Correction

In the Federal Register issue of October 5 (FR Doc. E7-19747), on page 57050, second column, under section V. Response to Comment that Overall Reimbursement Level Should Exceed $6,000, Conclusion, correct the Web site to read: http://www.livingdonorassistance.org.

Dated: October 23, 2007.
Dennis P. Williams,
Deputy Administrator.

[FR Doc. E7-21309 Filed 10-29-07; 8:45 am]

BILLING CODE 4165-15-P